DEPARTMENT OF JUSTICE

Notice of Lodging Proposed Consent Decree

In accordance with Departmental Policy, 28 CFR 50.7, notice is hereby given that a proposed Consent Decree in United States v. Anchordoguy, et al., Civil Action No. 2:13-cv-848-MCE-CMK, was lodged with the United States District Court for the Eastern District of California on August 12, 2014.

The proposed Consent Decree concerns a complaint filed by the United States, on behalf of the United States Environmental Protection Agency, against Matthew R. Anchordoguy, Anchordoguy and Company Limited Partnership, and John R. Barlow, to obtain injunctive relief and civil penalties for violations of Sections 301 and 404 of the Clean Water Act, 33 U.S.C. 1311 and 1344. The proposed Consent Decree resolves these allegations by requiring the defendants to mitigate the losses of ecological functions resulting from the violations; enjoining them from discharging pollutants to streams and wetlands on the site in question (in Tehama County, California) except as in compliance with the Clean Water Act; and directing them to pay a civil penalty.

The Department of Justice will accept written comments relating to the proposed Consent Decree for thirty (30) days from the date of publication of this Notice. Please address comments to Andrew J. Doyle, Senior Attorney, Environment and Natural Resources Division, Environmental Defense Section, Post Office Box 7611, Washington, DC 20044 and refer to United States v. Anchordoguy, et al., DJ # 90-5-1-1-19337.

The proposed Consent Decree may be examined at any of the Clerk's Offices, United States District Court for the Eastern District of California, including 501 I Street, Room 4-200, Sacramento, California 95814, and 2986 Bechelli Lane, Redding, California 96002. In addition, the proposed Consent Decree may be examined electronically at http://www.justice.gov/enrd/Consent_Decrees.html.

Cherie L. Rogers,
Assistant Section Chief,Environmental Defense Section,Environment and Natural Resources Division.

[FR Doc. 2014-19622 Filed 8-18-14; 8:45 am]

BILLING CODE 4410-15-P